DEPARTMENT OF TRANSPORTATION

14 CFR Part 97

[Docket No. 30643; Amdt. No. 3301]

Standard Instrument Approach Procedures, and Takeoff Minimums and Obstacle Departure Procedures; Miscellaneous Amendments

AGENCY: Federal Aviation Administration (FAA), DOT.

ACTION: Final rule.

SUMMARY: This rule establishes, amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective January 5, 2009. The compliance date for each SIAP, associated Takeoff Minimums, and ODP is specified in the amendatory provisions.

The incorporation by reference of certain publications listed in the regulations is approved by the Director of the Federal Register as of January 5, 2009.

ADDRESSES: Availability of matter incorporated by reference in the amendment is as follows:

For Examination—

1. FAA Rules Docket, FAA Headquarters Building, 800 Independence Avenue, SW., Washington, DC 20591;

2. The FAA Regional Office of the region in which the affected airport is located;

3. The National Flight Procedures Office, 6500 South MacArthur Blvd., Oklahoma City, OK 73169 or,

4. The National Archives and Records Administration (NARA). For information on the availability of this material at NARA, call 202-741-6030, or go to: http://www.archives.gov/federal_register/code_of_federal_regulations/ibr_locations.html.

Availability—All SIAPs are available online free of charge. Visit http://nfdc.faa.gov to register. Additionally, individual SIAP and Takeoff Minimums and ODP copies may be obtained from:

1. FAA Public Inquiry Center (APA-200), FAA Headquarters Building, 800 Independence Avenue, SW., Washington, DC 20591; or

2. The FAA Regional Office of the region in which the affected airport is located.

FOR FURTHER INFORMATION CONTACT: Harry J. Hodges, Flight Procedure Standards Branch (AFS-420) Flight Technologies and Programs Division, Flight Standards Service, Federal Aviation Administration, Mike Monroney Aeronautical Center, 6500 South MacArthur Blvd., Oklahoma City, OK 73169 (Mail Address: P.O. Box 25082, Oklahoma City, OK 73125); telephone: (405) 954-4164.

SUPPLEMENTARY INFORMATION: This rule amends Title 14, Code of Federal Regulations, Part 97 (14 CFR part 97) by amending the referenced SIAPs. The complete regulatory description of each SIAP is listed on the appropriate FAA Form 8260, as modified by the National Flight Data Center (FDC)/Permanent Notice to Airmen (P-NOTAM), and is incorporated by reference in the amendment under 5 U.S.C. 552(a), 1 CFR part 51, and § 97.20 of Title 14 of the Code of Federal Regulations.

The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained in FAA form documents is unnecessary. This amendment provides the affected CFR sections and specifies the types of SIAP and the corresponding effective dates. This amendment also identifies the airport and its location, the procedure and the amendment number.

The Rule

This amendment to 14 CFR part 97 is effective upon publication of each separate SIAP as amended in the transmittal. For safety and timeliness of change considerations, this amendment incorporates only specific changes contained for each SIAP as modified by FDC/P-NOTAMs.

The SIAPs, as modified by FDC P-NOTAM, and contained in this amendment are based on the criteria contained in the U.S. Standard for Terminal Instrument Procedures (TERPS). In developing these changes to SIAPs, the TERPS criteria were applied only to specific conditions existing at the affected airports. All SIAP amendments in this rule have been previously issued by the FAA in an FDC NOTAM as an emergency action of immediate flight safety relating directly to published aeronautical charts. The circumstances which created the need for all these SIAP amendments requires making them effective in less than 30 days.

Because of the close and immediate relationship between these SIAPs and safety in air commerce, I find that notice and public procedure before adopting these SIAPs are impracticable and contrary to the public interest and, where applicable, that good cause exists for making these SIAPs effective in less than 30 days.

Conclusion

The FAA has determined that this regulation only involves an established body of technical regulations for which frequent and routine amendments are necessary to keep them operationally current. It, therefore—(1) Is not a “significant regulatory action” under Executive Order 12866; (2) is not a “significant rule” under DOT regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Incorporation by reference, and Navigation (air).

Issued in Washington, DC on December 12, 2008.
John M. Allen,
Deputy Director, Flight Standards Service.

Adoption of the Amendment

Accordingly, pursuant to the authority delegated to me, Title 14, Code of Federal regulations, Part 97, 14 CFR part 97, is amended by amending Standard Instrument Approach Procedures, effective at 0901 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

§§ 97.23, 97.25, 97.27, 97.29, 97.31, 97.33 and 97.35 [Amended]

By amending: § 97.23 VOR, VOR/DME, VOR or TACAN, and VOR/DME or TACAN; § 97.25 LOC, LOC/DME, LDA, LDA/DME, SDF, SDF/DME; § 97.27 NDB, NDB/DME; § 97.29 ILS, ILS/DME, ISMLS, MLS/DME, MLS/RNAV; § 97.31 RADAR SIAPs; § 97.33 RNAV SIAPs; and § 97.35 COPTER SIAPs, Identified as follows:

* * * * *

Effective Upon Publication

FDC date | State | City | Airport | FDC No. | Subject
11/25/08 | NH | Whitefield | Mount Washington Regional | 8/1169 | LOC/NDB Rwy 10, Amdt 6.
11/25/08 | KY | Hopkinsville | Hopkinsville—Christian County | 8/1302 | RNAV (GPS) Rwy 8, Orig.
11/25/08 | GA | Canton | Cherokee County | 8/1313 | NDB Rwy 4, Amdt 3.
11/26/08 | ID | Rexburg | Rexburg-Madison County | 8/1387 | RNAV (GPS) Rwy 35, Amdt 1.
11/26/08 | ID | Idaho Falls | Idaho Falls Regional | 8/1399 | NDB Rwy 20, Amdt 10B.
11/26/08 | ID | Idaho Falls | Idaho Falls Regional | 8/1400 | LOC BC Rwy 2, Amdt 6A.
11/26/08 | ID | Idaho Falls | Idaho Falls Regional | 8/1402 | RNAV (GPS) Rwy 2, Orig.
11/26/08 | WA | Everett | Snohomish County (Paine Fld) | 8/1414 | ILS OR LOC/DME Rwy 16R, Amdt 21.
12/1/08 | NE | Omaha | Eppley Airfield | 8/1614 | ILS OR LOC/DME Rwy 14R, Amdt 4...ILS Rwy 14R (CAT II) Amdt 4...ILS Rwy 14R (CAT III) Amdt 4.
12/1/08 | NE | Omaha | Eppley Airfield | 8/1615 | ILS OR LOC Rwy 32R, Orig-A...ILS Rwy 32R (CAT II) Orig-A...ILS Rwy 32R (CAT III) Orig-A.
12/1/08 | NE | Omaha | Eppley Airfield | 8/1617 | ILS OR LOC/DME Rwy 14L, Amdt 1A.
12/1/08 | MT | Colstrip | Colstrip | 8/1682 | GPS Rwy 6, Orig-A.
12/1/08 | ND | Grand Forks | Grand Forks Intl | 8/1686 | RNAV (GPS) Rwy 17R, Orig.
12/1/08 | ND | Grand Forks | Grand Forks Intl | 8/1688 | VOR Rwy 17R, Amdt 6.
12/1/08 | WA | Ellensburg | Bowers Field | 8/1689 | VOR B, Amdt 3.
12/1/08 | NE | Omaha | Eppley Airfield | 8/1711 | ILS OR LOC/DME Rwy 18, Amdt 8.
12/1/08 | NE | Omaha | Eppley Airfield | 8/1712 | RNAV (GPS) Rwy 32R, Orig.
12/1/08 | OH | Cleveland | Cleveland-Hopkins Intl | 8/1768 | ILS OR LOC Rwy 6R, Amdt 20.
12/7/08 | CA | Arcata/Eureka | Arcata | 8/2005 | RNAV (GPS) Rwy 32, Orig.
12/7/08 | CA | Arcata/Eureka | Arcata | 8/2007 | VOR/DME Rwy 1, Amdt 7B.
12/7/08 | CA | Arcata/Eureka | Arcata | 8/2011 | ILS OR LOC/DME Rwy 32, Amdt 1C.
12/7/08 | CA | Arcata/Eureka | Arcata | 8/2012 | ILS Rwy 32, Amdt 29B.
12/2/08 | OR | Madras | Madras Municipal | 8/2016 | TAKEOFF MINIMUMS AND (OBSTACLE) DP, Orig.
12/2/08 | OR | Madras | Madras Municipal | 8/2020 | RNAV (GPS) A, Orig.
12/2/08 | NY | New York | Laguardia | 8/2159 | LDA-A, Amdt 2A.
12/2/08 | VA | Norfolk | Chesapeake Regional | 8/2247 | RNAV (GPS) Rwy 5, Orig.
12/3/08 | VA | Manassas | Manassas RGNL/Harry P David Fl | 8/2248 | RNAV (GPS) Rwy 16R, Orig-A.
12/5/08 | CO | Longmont | Vance Brand | 8/2637 | VOR/DME-A, Amdt 1A.
12/5/08 | CO | Longmont | Vance Brand | 8/2638 | RNAV (GPS) B, Orig-A.
12/5/08 | OR | Medford | Rogue Valley Intl/Medford | 8/2640 | Takeoff Minimums and (Obstacle) DP, Amdt 8.
12/5/08 | TX | Dallas | Dallas Executive | 8/2716 | ILS OR LOC Rwy 31, Amdt 8.
12/9/08 | IL | Belleville | Scott AFB/Midamerica | 8/3076 | ILS OR LOC Rwy 14R, Orig-B.
12/10/08 | NC | Maxton | Laurinburg-Maxton | 8/3203 | RNAV (GPS) Rwy 5, Orig.
12/10/08 | NC | Maxton | Laurinburg-Maxton | 8/3204 | ILS Rwy 5, Amdt 1.
12/10/08 | NC | Mooresville | Lake Norman Airpark | 8/3271 | RNAV (GPS) Rwy 14, Orig.
12/11/08 | DC | Washington | Washington Dulles Intl | 8/3289 | RNAV (GPS) Y Rwy 19C, Amdt 3.
12/10/08 | FL | Tallahassee | Tallahassee Regional | 8/3356 | VOR Rwy 18, Amdt 11.
12/10/08 | FL | Tallahassee | Tallahassee Regional | 8/3357 | NDB Rwy 36, Amdt 20.
12/10/08 | PA | Pittsburgh | Pittsburgh Intl | 8/3421 | RNAV (RNP) Z Rwy 32, Orig.
12/10/08 | PA | Pittsburgh | Pittsburgh Intl | 8/3422 | RNAV (GPS) Y Rwy 32, Amdt 4.
12/10/08 | PA | Pittsburgh | Pittsburgh Intl | 8/3423 | ILS OR LOC Rwy 32, Amdt 12.
12/9/08 | IL | Belleville | Scott AFB/Midamerica | 8/8135 | This NOTAM Published In TL 08-26 Is Hereby Rescinded In It's Entirety. ILS OR LOC Rwy 14R, Orig-B.
11/14/08 | LA | Natchitoches | Natchitoches RGNL | 8/9331 | This NOTAM Published In TL 09-01 Is Hereby Rescinded In It's Entirety. LOC Rwy 35, Amdt 3D.

[FR Doc. E8-30640 Filed 1-2-09; 8:45 am]

BILLING CODE 4910-13-P